DEPARTMENT OF COMMERCE

Foreign-Trade Zones Board

[Dockets 34, 35 and 36-2006]

Foreign-Trade Zone 93—Raleigh/Durham, NC; Foreign-Trade Zone 123—Denver, CO; Foreign-Trade Zone 153—San Diego, CA; Withdrawal of Requests for Subzone Status

Notice is hereby given of the withdrawal of the applications requesting special-purpose subzone status on behalf of QUALCOMM Incorporated.The applications were filed on August 15, 2006 (71 FR 48534-48536, 8/21/2006).

The withdrawal was requested because of changed circumstances, and the cases have been closed without prejudice.

Dated: March 4, 2008.
Andrew McGilvray,
Executive Secretary.

[FR Doc. E8-4841 Filed 3-10-08; 8:45 am]

BILLING CODE 3510-DS-P